DEPARTMENT OF ENERGY

Office of Energy Efficiency and Renewable Energy

Proposed Agency Information Collection

AGENCY: Office of Energy Efficiency and Renewable Energy, U.S. Department of Energy.

ACTION: Notice and request for comments.

SUMMARY: The Department of Energy (DOE) invites public comment on a proposed collection of information for a National Evaluation of the Energy Efficiency and Conservation Block Grant Program (EECBG) that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including the use of automated collection techniques or other forms of information technology. Information about the outcomes of the program, including energy and cost savings, the net number of jobs created or retained, and gross reductions in carbon emissions, is needed for a comprehensive evaluation of the program.

DATES: Comments regarding this proposed information collection must be received on or before April 16, 2012. If you anticipate difficulty in submitting comments within that period, contact the person listed in ADDRESSES as soon as possible.

ADDRESSES: Written comments may be sent to Colleen Rizy, Environmental Sciences Division, Oak Ridge National Laboratory, P.O. Box 2008, MS-6036, Oak Ridge, TN 37831-6036; rizycg@ornl.gov.

FOR FURTHER INFORMATION CONTACT: Requests for additional information should be directed to: Colleen Rizy, Environmental Sciences Division, Oak Ridge National Laboratory, P.O. Box 2008, MS-6036, Oak Ridge, TN 37831-6036; rizycg@ornl.gov

SUPPLEMENTARY INFORMATION: This information collection request contains:

(1) OMB No. New.

(2) Information Collection Request Title: National Evaluation of the United States Department of Energy's Energy Efficiency and Conservation Block Grant Program.

(3) Type of Request: New.

(4) Purpose: DOE is conducting an evaluation of EECBG, a national program providing over $2.7 billion in grants to approximately 2,350 cities, counties, States, territories, and Indian Tribes. Grants could be used for energy efficiency and conservation efforts, building code support, renewable energy installations, distributed energy technologies, transportation activities, recycling and waste management efforts, and other activities approved by DOE.

The EECBG Program, authorized in Title V, Subtitle E of the Energy Independence and Security Act (EISA) and signed into law on December 19, 2007, was funded, for the first time, by the American Recovery and Reinvestment Act of 2009. The Funding Opportunity Announcement (FOA) for Formula Grants was issued on June 25, 2009 and closed on June 25, 2010.

The scope of the National Evaluation of EECBG involves a combination of careful reviews of grant status reports and applications (“engineering desk reviews”), conversations with DOE project officers, and in-depth interviews with grant managers to assemble critical data for answering the three questions of interest:

1. What is the total magnitude of energy and cost savings, and other key outcomes, such as gross carbon emissions reduction and the net number of jobs created or retained, achieved in Broad Program Areas that cumulatively account for approximately 80 percent of total Formula Grant expenditures in the 2009-2011 program years?

2. What is the magnitude of outcomes achieved by each of the most heavily-funded Broad Program Areas within the EECBG portfolio?

3. What are the key factors influencing the magnitude of EECBG outcomes?

These questions will be answered by evaluating a sample of 350 grant activity examples from a pool of direct grants and State sub-grants, all issued as part of the EECBG program.

Scale of the Information Collection

The DOE Formula grants are well-defined and have been further scrutinized by Oak Ridge National Laboratory (ORNL)/DOE and its contractors for categorization into Broad Program Areas and activities. The evaluation team will complete the process of counting and categorizing the State sub-grants. From these combined lists of grants, sorted by Broad Program Area, sub-area, and activity, and from a set of criteria developed by ORNL/DOE and its contractors, a sampling approach will be applied to select 350 grants for study. That random sample of projects will be taken from the six Broad Program Areas that, in combination, account for over 80 percent of total EECBG Formula Grant expenditures, which will allow valid inferences to be drawn for each Broad Program Area examined.

Data collection will begin with a combination of careful reviews of DOE program databases, grant status reports and applications (“engineering desk reviews”), and conversations with DOE project officers and Regional and State Coordinators. After this extensive preliminary data collection effort, interviews will be conducted with grant program managers and grant project managers for each sample point. The two survey instruments proposed are:

1. Grant Activity-Level Contact Survey: Verifies activities performed, measures installed, measure level data, and other relevant project information necessary to calculate program impacts and other metrics.

There will be 2 versions of this survey instrument: One for grant activities targeted to residential dwellings, and one for non-residential buildings.

2. Performance Indicators Survey: Collects information regarding operational success factors to be combined with grant data and secondary data on economic and other external factors for determining what conditions and elements are necessary for a successful project.

Together, these surveys will involve 700 respondents and entail a total burden of 642 hours. This calculation is based on the assumption that the telephone surveys used in this study will require an average of 55 minutes, depending on the individual survey instrument.

This evaluation approach will not include any data collection from individual service recipients to estimate savings or outcomes. This study will use data from the above-mentioned interviews plus additional information that can be obtained from program records and secondary sources, as well as engineering-based analytical methods, to produce energy savings and outcome estimates.

The above-described data collection instruments will be supplemented by additional records research and database review activities provided by the Grant Program Managers and Local Grant Activity Managers. These general recordkeeping activities will require an estimated 487 hours. Combining the burden hours associated with telephone surveys (642 hours) with the burden hours associated with general records review (487 hours) produces a total estimated burden of 1,129 hours.

Two key steps are being taken to avoid duplicating the efforts of any concurrent evaluations of EECBG activities: (1) Identifying results from any EECBG grant evaluation efforts taking place at the State level; and (2) coordinating with the Better Buildings Program evaluation concerning any data collection already taking place during the same time period that addresses EECBG grant activities.

The sample selection of Broad Program Areas and specific programmatic activities within each Broad Program Area is scheduled to be completed by June 2012. Data collection and calculation of outcomes are scheduled to be completed by October 2012.

The detailed study design and work plan for the EECBG evaluation has been available for public review since January 2012 at http://weatherization.ornl.gov/eecbg.shtml.

(5) Annual Estimated Number of Respondents: 700.

(6) Annual Estimated Number of Total Responses: 700.

(7) Annual Estimated Total Number of Burden Hours (Interview and Record Review): 1,129.

Statutory Authority: Title V, Subtitle E of the Energy Independence and Security Act of 2007, codified at 42 U.S.C. 17151-17158.

Issued in Washington, DC on February 1, 2012.
Henry C. Kelly,
Acting Assistant Secretary, Energy Efficiency and Renewable Energy.

[FR Doc. 2012-3535 Filed 2-14-12; 8:45 am]

BILLING CODE 6450-01-P